DEPARTMENT OF COMMERCE

National Oceanic and Atmospheric Administration

15 CFR Part 922

Revisions of Boundaries for the Monterey Bay National Marine Sanctuary; Intent To Prepare an Environmental Impact Statement; Scoping Meetings

AGENCY: Office of National Marine Sanctuaries, National Ocean Service, National Oceanic and Atmospheric Administration, Department of Commerce.

ACTION: Notice of Intent to Revise Boundaries; Intent to Prepare an Environmental Impact Statement; Scoping Meetings.

SUMMARY: In accordance with section 304 of the National Marine Sanctuaries Act, as amended, (NMSA) (16 U.S.C. 1431 et seq.), the Office of National Marine Sanctuaries (ONMS) of the National Oceanic and Atmospheric Administration (NOAA) has initiated a review of the Monterey Bay National Marine Sanctuary (MBNMS or sanctuary) boundaries, to evaluate the opportunity and effects of expanding the sanctuary's boundary. The process required by NMSA will be conducted concurrently with a public process under the National Environmental Policy Act (NEPA) (42 U.S.C. 4321 et seq.). This notice also informs the public that NOAA will coordinate its responsibilities under section 106 of the National Historic Preservation Act (NHPA) (16 U.S.C. 470) with its ongoing NEPA process, pursuant to 36 CFR 800.8(a), including the use of NEPA documents and public and stakeholder meetings to also meet the requirements of section 106. NOAA anticipates completion of the final environmental impact statement and concomitant documents will require approximately twelve months from the date of publication of this Notice of Intent.

DATES: Comments must be received by October 10, 2012. Dates for scoping meetings are:

(1) August 16, 2012

(2) August 23, 2012

(3) September 12, 2012

ADDRESSES: Comments may be submitted by any one of the following methods:

—Federal eRulemaking Portal: http://www.regulations.gov. Submit electronic comments via the Federal eRulemaking Portal with Docket Number NOAA-NOS-2012-0153.

—Mail: Maria Brown, Sanctuary Superintendent, Gulf of the Farallones National Marine Sanctuary, 991 Marine Drive, The Presidio, San Francisco, CA 94129.

Instructions: All comments received are a part of the public record. All Personal Identifying Information (for example, name, address, etc.) voluntarily submitted by the commenter may be publicly accessible. Do not submit confidential business information or otherwise sensitive or protected information. NOAA will accept anonymous comments (enter N/A in the required fields to remain anonymous). Attachments to electronic comments will be accepted in Microsoft Word, Excel, Wordperfect, or Adobe PDF file formats only.

FOR FURTHER INFORMATION CONTACT: Leslie Abramson, Advisory Council Coordinator, at Leslie.Abramson@noaa.gov or 415-561-6622 x306.

SUPPLEMENTARY INFORMATION:

Background Information

The Monterey Bay National Marine Sanctuary (MBNMS), designated in 1992, is a Federally protected marine area offshore of California's central coast. Stretching from Marin to Cambria, the MBNMS encompasses a shoreline length of 276 miles and 6,094 square miles of ocean, extending an average distance of 30 miles from shore. At its deepest point, the MBNMS reaches down 12,713 feet (more than two miles). The Gulf of the Farallones National Marine Sanctuary (GFNMS) has administrative jurisdiction over the northern portion of the MBNMS from the San Mateo/Santa Cruz County line northward to the existing boundary between the two sanctuaries, and maintains an office in San Francisco.

When the MBNMS was designated, the urban waters of San Francisco, Daly City, and Pacifica were deemed incompatible with sanctuary regulations and excluded from MBNMS designation. This unprotected area is referred to as the San Francisco-Pacifica Exclusion Area. The following activities taking place at the time of MBNMS designation were listed as reasons for excluding the region:

1. Pollution problems stemming from the combined sewer overflow component of the City and County of San Francisco's sewage treatment program;

2. High vessel traffic in the area;

3. Potential pollutants from dredge spoils deposited in the exclusion area.

The Sanctuary has received reports that these three conditions are no longer valid issues for exclusion of this area. The San Francisco Public Utilities Commission (SFPUC) Oceanside Wastewater Treatment Plant has functioned for 17 years without a permit violation and is viewed as a national model of environmental sustainability. Recommended vessel traffic patterns have been moved offshore of the exclusion area and dredge materials are reported to be clean and are permitted under the Environmental Protection Agency.

In 2008, the Joint Management Plan Review for Cordell Bank, Gulf of the Farallones and Monterey Bay National Marine Sanctuaries determined that GFNMS would “facilitate a public process in the next five years to consider whether the exclusion area should be incorporated into the MBNMS.” At the February 23, 2012 and June 7, 2012 GFNMS Advisory Council meetings, the Sanctuary Advisory Council (SAC) unanimously recommended that the sanctuary superintendent explore the option of incorporating the exclusion area into MBNMS boundaries.

In accordance with Section 304 of the NMSA, ONMS is initiating a review of the MBNMS boundaries to “evaluate and assess a proposed expansion” for the sanctuary. NOAA is proposing to administratively add the exclusion area to the sanctuary as a way to protect additional nationally-significant seascape, wildlife, shipwrecks, and to promote ecotourism. An expanded sanctuary could protect up to an additional seventy-seven square nautical miles (101 square statute miles), from the waters west of the Golden Gate Bridge to the current sanctuary boundaries, and would support the Administration's focus on growing travel and tourism in the United States and in particular in the San Francisco Bay Area.

Review Process

The review process is composed of four primary stages:

1. Information collection and characterization, including public scoping meetings.

2. Preparation and release of a draft environmental impact statement (DEIS) as required by Section 304(a) of the NMSA that identifies boundary expansion alternatives, as well as a notice of proposed rulemaking (NPRM) to amend the sanctuary regulations to reflect any new boundary if proposed.

3. Public review and comment on the DEIS and NPRM; and

4. Preparation and release of a final environmental impact statement, including a response to public comments, with a final rule if appropriate.

NOAA anticipates that the completion of the final environmental impact statement and concomitant documents will require approximately twelve months.

At this time, NOAA is opening a public comment period to:

1. Gather information and public comments from individuals, organizations, and government agencies on whether MBNMS should expand its boundary and the potential effects of a boundary expansion;

2. Help determine the scope of issues to be addressed in the preparation of an environmental impact statement (EIS) pursuant to the NEPA, if warranted; and

3. Conduct a series of public scoping meetings to collect public comment. The public scoping meeting schedule is presented below.

Public Scoping Meetings: The public scoping meetings will be held on the following dates and at the following locations and times:

1. Santa Cruz, CA

Date: August 16, 2012.

Location: Louden Nelson Community Center.

Address: 301 Center Street,

Santa Cruz, CA 95060.

Time: 4 p.m. to 6 p.m.

2. San Francisco, CA

Date: August 23, 2012.

Location: Golden Gate National Recreation Area Headquarters.

Address: Upper Fort Mason, Bldg. 201, San Francisco, CA.

Time: 5:30 p.m. to 7:30 p.m.

3. Pacifica, CA

Date: September 12, 2012.

Location: Pacifica Community Center, The Card Room.

Address: 540 Crespi Drive Pacifica, CA 94044.

Time: 6 p.m. to 8 p.m.

Consultation Under National Historic Preservation Act

This notice confirms that NOAA will fulfill its responsibility under section 106 of the NHPA through the ongoing NEPA process, pursuant to 36 CFR 800.8(a), including the use of NEPA documents and public and stakeholder meetings to meet the section 106 requirements. The NHPA specifically applies to any agency undertaking that may affect historic properties. Pursuant to 36 CFR 800.16(1)(1), historic properties includes: “any prehistoric or historic district, site, building, structure or object included in, or eligible for inclusion in, the National Register of Historic Places maintained by the Secretary of the Interior. The term includes artifacts, records, and remains that are related to and located within such properties. The term includes properties of traditional religious and cultural importance to an Indian tribe or Native Hawaiian organization and that meet the National Register criteria.”

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures, and develop in consultation with identified consulting parties alternatives and proposed measures that might avoid, minimize or mitigate any adverse effects on historic properties and describe them in any environmental assessment or draft environmental impact statement.

Authority: 16 U.S.C. 1431 et seq.; 16 U.S.C. 470.

Dated: July 30, 2012.
Daniel J. Basta,
Director for the Office of National Marine Sanctuaries.

[FR Doc. 2012-19105 Filed 8-6-12; 8:45 am]

BILLING CODE 3510-NK-P